DEPARTMENT OF COMMERCE

National Oceanic and Atmospheric Administration

50 CFR Part 600

[I.D. 070901B]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Administrator, Northeast Region, NMFS (Regional Administrator), has determined that an application for EFPs contains all of the required information and warrants further consideration. The Regional Administrator has also made a preliminary determination that the activities authorized under the EFP would be consistent with the goals and objectives of the Northeast Multispecies Fishery Management Plan (FMP), and the cumulative impacts would be within the scope of earlier analyses on the FMP. However, further review and consultation may be necessary before a final determination is made to issue EFPs. Therefore, NMFS announces that the Regional Administrator proposes to issue EFPs in response to the application that would allow up to 20 vessels to conduct fishing operations otherwise restricted by the regulations governing the fisheries of the northeastern United States. Such fishing operations would continue the collection of data on bycatch of regulated multispecies and would provide information to NMFS and the New England Fishery Management Council regarding whether or not the fishery may be made an exempted fishery under the Northeast Multispecies regulations. The Massachusetts Division of Marine Fisheries (MADMF) has submitted an application for EFPs for commercial otter trawl vessels using the raised footrope trawl. The EFPs would allow the federally permitted vessels to fish with the modified otter trawl with mesh less than the minimum mesh size within a portion of the Gulf of Maine/Georges Bank Regulated Mesh Area. Regulations under the Magnuson-Stevens Fishery Conservation and Management Act require publication of this notification to provide interested parties the opportunity to comment on applications for proposed EFPs.

DATES: Comments on this notification must be received at the appropriate address or fax number (see ADDRESSES) on or before August 3, 2001.

ADDRESSES: Written comments should be sent to Patricia Kurkul, Regional Administrator, NMFS, Northeast Regional Office, One Blackburn Drive, Gloucester, MA 01930. Mark the outside of the envelope “Comments on Raised Footrope Trawl EFP Proposal.” Comments may also be sent via facsimile (fax) to (978) 281-9135.

FOR FURTHER INFORMATION CONTACT: Peter W. Christopher, Fishery Policy Analyst, 978-281-9288.

SUPPLEMENTARY INFORMATION: MADMF submitted a proposal on May 18, 2001, for EFPs for up to 20 vessels to fish with a modified small-mesh otter trawl for silver hake (Merluccius bilinearis) in a portion of the Gulf of Maine/Georges Bank Regulated Mesh Area. The proposed experiment is a continuation of an experimental fishery conducted in 1999 and 2000 to gather information on bycatch retained by the modified otter trawl in the requested area. The experiment proposes to continue the collection of data to determine whether or not the fishery has a level of bycatch of regulated multispecies that would enable the fishery to be determined an exempted fishery under the criteria set forth in the FMP. Based on the outcome of this EFP, this action may lead to future rulemaking.

The study would occur from September 1 through December 30, 2001, and take place east of Cape Cod in an area defined by the following coordinates:

Area Point | N. Latitude | W. Longitude
RFT1 | 42°14.05′ | 70°08.80′
RFT2 | 42°09.20′ | 69°47.80′
RFT3 | 41°54.85′ | 69°35.20′
RFT4 | 41°41.50′ | 69°32.85′
RFT5 | 41°39.00′ | 69°44.30′
RFT6 | 41°45.60′ | 69°51.80′
RFT7 | 41°52.30′ | 69°52.55′
RFT8 | 41°55.50′ | 69°53.45′

The maximum number of vessels participating in the experiment at a given time would be 20 with an estimated total number of trips at approximately 200. The gear to be used during the experiment is a modified small-mesh otter trawl called the “raised footrope trawl.” The gear uses modifications of the float configuration, headrope, footrope, and sweep to keep the mouth of the net from fishing on the bottom and retaining bottom-dwelling species such as flounders, monkfish, skates, lobster, and crabs. Participating vessels would also be subject to a minimum mesh size of 2.5 inches (6.35 cm) in the codend and would be allowed to retain a maximum of 7,500 lb (3,402 kg) of silver hake and offshore hake (Merluccius albidus) with nets of mesh size between 2.5 inches (6.35 cm) and 3 inches (7.62 cm), and a maximum of 30,000 lb (13,608 kg) of silver hake and offshore hake with nets of mesh size 3 inches (7.62 cm) and above. The possession limits are to ensure that the conservation goals for whiting are preserved. Vessels may be required to carry onboard observers as requested by MADMF and/or NMFS. Onboard observers will be trained in the protocols of the experiment by MADMF and/or NMFS.

Authority: 16 U.S.C. 1801 et seq.

Dated: July 13, 2001.
Bruce C. Morehead,
Acting Director, Office of Sustainable Fisheries, National Marine Fisheries Service.

[FR Doc. 01-18105 Filed 7-18-01; 8:45 am]

BILLING CODE 3510-22-S